DEPARTMENT OF AGRICULTURE

Forest Service

Lincoln County Resource Advisory Committee Meeting

AGENCY: Forest Service, USDA.

ACTION: Notice of meeting.

SUMMARY: The Lincoln County Resource Advisory Committee will meet in Libby, MT. The committee is authorized under the Secure Rural Schools and Community Self-Determination Act (Pub. L 110-343) (the Act) and operates in compliance with the Federal Advisory Committee Act. The purpose of the committee is to improve collaborative relationships and to provide advice and recommendations to the Forest Service concerning projects and funding consistent with the title II of the Act. The meeting is open to the public. The purpose of the meeting is to review and recommend project proposals for implementation for Secure Rural Schools and Community Self-Determination Act 2012.

DATES: September 19, 2012, at 6 p.m.

ADDRESSES: Forest Supervisor's Office, 31374 Hwy 2, Libby, Montana. Written comments may be submitted as described under SUPPLEMENTARY INFORMATION.

All comments, including names and addresses when provided, are placed in the record and are available for public inspection and copying. The public may inspect comments received at the Forest Supervisor's Office. Please call ahead to 406-283-7764 to facilitate entry into the building to view comments.

FOR FURTHER INFORMATION CONTACT: Janette Turk, Committee Coordinator, Kootenai National Forest at (406) 283-7764, or email jturk@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed in FOR FURTHER INFORMATION CONTACT.

SUPPLEMENTARY INFORMATION: The following business will be conducted: The purpose of the meeting is to review and recommend project proposals for implementation for Secure Rural Schools and Community Self-Determination Act 2012.

If the meeting date or location is changed, notice will be posted in the local newspapers, including the Daily Interlake, based in Kalispell, Montana. Anyone who would like to bring related matters to the attention of the committee may file written statements with the committee staff before or after the meeting. The agenda will include time for people to make oral statements of three minutes or less. Individuals wishing to make an oral statement should request in writing by September 17 to be scheduled on the agenda. Written comments and requests for time for oral comments must be sent to Forest Supervisor's Office, 31374 Hwy 2, Libby, Montana, or by email to jturk@fs.fed.us, or via facsimile to 406-283-7709.

Dated: September 4, 2012.
Paul Bradford,
Forest Supervisor, Kootenai National Forest.

[FR Doc. 2012-22535 Filed 9-12-12; 8:45 am]

BILLING CODE 3410-11-P